DEPARTMENT OF COMMERCE

International Trade Administration

[C-475-819]

Certain Pasta From Italy: Notice of Extension of Time Limit for the 1998 Countervailing Duty Administrative Review

AGENCY: Import Administration, International Trade Administration, Department of Commerce.

SUMMARY: The Department of Commerce is extending the time limit for the preliminary results of the third review of the countervailing duty order on certain pasta from Italy. The period of review is January 1 through December 31, 1998.

EFFECTIVE DATE: April 6, 2000.

FOR FURTHER INFORMATION CONTACT: Craig Matney or Annika O'Hara, Office of AD/CVD Enforcement I, Import Administration, U.S. Department of Commerce, 14th Street and Constitution Avenue, NW, Washington, DC 20230; telephone (202) 482-1778 or (202) 482-3798, respectively.

SUPPLEMENTARY INFORMATION:

Applicable Statute

Unless otherwise indicated, all citations to the statute are references to the provisions effective January 1, 1995, the effective date of the amendments made to the Tariff Act of 1930 (the Act) by the Uruguay Round Agreements Act. Unless otherwise indicated, all citations to the Department's regulations are to 19 CFR part 351 (1999).

Background

On August 30, 1999, the Department of Commerce (“the Department”) initiated the third countervailing duty administrative review of certain pasta from Italy, covering calendar year 1998. See Initiation of Antidumping and Countervailing Duty Administrative Reviews and Requests for Revocation in Part, 64 FR 47167 (August 30, 1999). Corrections to the initiation notice were published in the Federal Register on September 8, 1999 (64 FR 48897) and November 4, 1999 (64 FR 60161). The preliminary results are currently due no later than April 3, 2000.

Statutory Time Limits

Section 751(a)(3)(A) of the Tariff Act of 1930, as amended (the Act), requires the Department to issue the preliminary results within 245 days after the last day of the anniversary month of the order for which a review is requested. However, if it is not practicable to issue the preliminary results within the time period, section 751(a)(3)(A) of the Act allows the Department to extend this deadline to a maximum of 365 days.

Postponement

The Department has determined that additional time is necessary to issue the preliminary results in this administrative review for the reasons stated in our memorandum from Susan Kuhbach to Richard Moreland, dated March 31, 2000. Therefore, in accordance with section 751 (a)(3)(A) of the Act, we are postponing the preliminary results of this administrative review until no later than July 31, 2000.

This notice is published pursuant to section 777(i)(1) of the Act.

Dated: March 31, 2000.
Richard W. Moreland,
Deputy Assistant Secretary for Import Administration.

[FR Doc. 00-8565 Filed 4-5-00; 8:45 am]

BILLING CODE 3510-DS-P